ENVIRONMENTAL PROTECTION AGENCY

40 CFR Part 52

[EPA-R09-OAR-2016-0028; FRL-9944-56-Region 9]

Approval of Air Plan Revisions; Arizona; Rescissions and Corrections

AGENCY: Environmental Protection Agency (EPA).

ACTION: Partial withdrawal of direct final rule.

SUMMARY: Due to the receipt of adverse comments, the Environmental Protection Agency (EPA) is withdrawing a portion of the February 11, 2016 direct final rule approving certain revisions to the Arizona State Implementation Plan (SIP) and correcting certain errors. The adverse comments relate to a particular test method and thus the EPA is withdrawing the portion of the direct final rule that relates to the test methods that include the test method for which the adverse comments were received.

DATES: The addition of paragraph (c)(29)(i)(B) published on February 11, 2016 at 81 FR 7214 is withdrawn, effective April 5, 2016.

FOR FURTHER INFORMATION CONTACT: Andrew Steckel, EPA Region IX, (415) 947-4115, steckel.andrew@epa.gov.

SUPPLEMENTARY INFORMATION: On February 11, 2016, the EPA published a direct final rule approving a SIP revision submitted by the Arizona Department of Environmental Quality (ADEQ). In the February 11, 2016 direct final rule, the EPA also corrected certain errors in previous actions on prior revisions to the Arizona SIP and to make certain other corrections. In the direct final rule, the EPA stated that if adverse comments were received by March 14, 2016, the EPA would publish a timely withdrawal and address the comments in a subsequent final rule based on the proposed rule also published on February 11, 2016 (81 FR 7259). The February 11, 2016 proposed rule indicated that if the EPA receives adverse comment on an amendment, paragraph, or section of the direct final rule and if that provision may be severed from the remainder of the rule, the EPA may adopt as final those provisions of the rule that are not the subject of an adverse comment.

In this instance, the EPA received adverse comments on a certain test method for which the EPA had approved rescission. The relevant test method was included in a SIP revision submitted by ADEQ on January 23, 1979 that also included a number of other test methods and certain performance test specifications, all of which were approved by the EPA at 47 FR 17483 (April 23, 1982). The EPA's approval of the test methods and performance test specifications submitted on January 23, 1979 and approved on April 23, 1982 was codified at 40 CFR 52.120(c)(29)(i)(A).

The EPA's action on the rescission of the test methods and performance test specifications submitted on January 23, 1979 and approved on April 23, 1982 is severable from the rest of the direct final rule. Thus, the EPA is withdrawing only the portion of the direct final rule related to those test methods and performance test specifications. The EPA will address the comments in a separate final action covering the state's rescission of the test methods and performance test specifications submitted on January 23, 1979 (and approved on April 23, 1982) based on the proposed action published on February 11, 2016 (81 FR 7259). The EPA will not open a second comment period for the action on the state's rescissions of the test methods and performance test specifications. The other actions in the February 11, 2016 Federal Register direct final rule are not affected.

List of Subjects in 40 CFR Part 52

Environmental protection, Air pollution control, Incorporation by reference, Intergovernmental relations, Particulate matter, Reporting and recordkeeping requirements.

Dated: March 24, 2016.
Jared Blumenfeld,
Regional Administrator, Region IX.

Accordingly, the addition of paragraph (c)(29)(i)(B) which was published in the Federal Register on February 11, 2016 (81 FR 7209) on page 7214 is withdrawn as of April 5, 2016.

[FR Doc. 2016-07666 Filed 4-4-16; 8:45 am]

BILLING CODE 6560-50-P